DEPARTMENT OF HEALTH AND HUMAN SERVICES

Health Resources and Services Administration

National Practitioner Data Bank: Change in User Fee for Self-Query Mailed Paper Copies

AGENCY: Health Resources and Services Administration (HRSA), Department of Health and Human Services.

ACTION: Notice.

SUMMARY: HRSA is announcing a change in user fees charged to individuals requesting a supplemental mailed paper copy of their National Practitioner Data Bank (NPDB) self-query results. The supplemental fee will increase from $3.00 to $13.00 per mailed paper copy as these copies will be provided using U.S. Postal Service certified mail. The user fees for one-time query, continuous, and digitally certified self-query results will remain unchanged.

DATES: The fee increase for mailed paper self-query results will be effective October 1, 2024.

FOR FURTHER INFORMATION CONTACT: David Loewenstein, Director, Division of Practitioner Data Bank, Bureau of Health Workforce, HRSA, (301) 443-2300, NPDBPolicy@hrsa.gov.

SUPPLEMENTARY INFORMATION: The current fee structure ($2.50/continuous query enrollment, $2.50/one-time query, and $3.00/self-query and an additional $3.00/requested mailed paper copy) was announced in the Federal Register on July 21, 2021, (86 FR 38491) and became effective on October 1, 2021. One-time queries, continuous query enrollments, and self-queries are submitted and query responses are received through the NPDB's secure website. Fees are paid via electronic funds transfer, debit card, or credit card.

The user fees for one-time query, continuous, and digitally certified self-query results will remain unchanged. Upon requesting a self-query, practitioners receive a digitally certified response which they can save and provide to requesting entities electronically. Digitally certified self-queries are delivered in an unalterable PDF within minutes of the request being placed. Practitioners can save their certified response file digitally and provide it to requesting entities directly. The security of a digitally certified response provides assurance that the response is exactly as it was issued by the NPDB. However, if needed, practitioners may also request a mailed paper copy of their self-query results. To protect sensitive information in self-query responses, the mailed results will now be delivered through U.S. Postal Service certified mail with receipt confirmation. Since the NPDB is required to cover all its costs with user fees, increased fee for mailed paper self-query results will offset the certified mail expense.

HRSA operational standards require review of NPDB user fees at least every 2 years. The biennial review of NPDB user fees offers HRSA the opportunity to evaluate its reserves as well as revenue relative to costs. Further, the review provides essential information on whether the fee rates and authorized activities are aligned with actual program costs and activities, and can help promote greater understanding of the fee by NPDB users.

The NPDB is authorized by the Health Care Quality Improvement Act of 1986 (the Act), Title IV of Public Law 99-660, as amended (42 U.S.C. 11101 et seq.). Further, two additional statutes expanded the scope of the NPDB—Section 1921 of the Social Security Act, as amended (42 U.S.C. 1396r-2) and Section 1128E of the Social Security Act, as amended (42 U.S.C. 1320a-7e). Information collected under the Section 1128E authority was consolidated within the NPDB pursuant to Section 6403 of the Affordable Care Act, Public Law 111-148; this consolidation became effective on May 6, 2013. 42 U.S.C. 11137(b)(4), 42 U.S.C. 1396r-2(e), and42 U.S.C. 1320a-7e(d) authorize the establishment of fees for the costs of processing requests for disclosure of such information. Final regulations at45 CFR part 60 set forth the criteria and procedures for information to be reported to and disclosed by the NPDB. In determining any changes in the amount of user fees, the Department uses the criteria set forth in section 60.19(b) of the regulations. Section 60.19(b) states:

“The amount of each fee will be determined based on the following criteria:

(1) Direct and indirect personnel costs, including salaries and fringe benefits such as medical insurance and retirement,

(2) Physical overhead, consulting, and other indirect costs (including materials and supplies, utilities, insurance, travel, and rent and depreciation on land, buildings, and equipment),

(3) Agency management and supervisory costs,

(4) Costs of enforcement, research, and establishment of regulations and guidance,

(5) Use of electronic data processing equipment to collect and maintain information—the actual cost of the service, including computer search time, runs and printouts, and

(6) Any other direct or indirect costs related to the provision of services.”

The Department will continue to review the user fees periodically as required by Office of Management and Budget Circular Number A-25 and will revise fees as necessary. Any future changes in user fees and their effective dates will be announced in the Federal Register.

Carole Johnson,
Administrator.

[FR Doc. 2024-18456 Filed 8-16-24; 8:45 am]

BILLING CODE 4165-15-P